DEPARTMENT OF ENERGY

Federal Energy Regulatory Commission

[Docket No. CP08-31-000]

Transcontinental Gas Pipe Line Corporation; Notice of Meeting

June 2, 2008.

At the request of U.S. Representative Jim Gerlach, representing the 6th Congressional District of Pennsylvania, staff of the Federal Energy Regulatory Commission will attend a meeting called by the Congressman to discuss constituents' concerns about the proposed Sentinel Expansion Project.

The meeting will be held on June 16, 2008, beginning at 6:30 p.m. (EDT) at: Great Valley High School, 225 North Phoenixville Pike, Malvern, PA 19355, (610) 889-1900.

For additional information regarding this meeting, please contact the Commission's Office of External Affairs at (202) 502-8004.

Kimberly D. Bose,
Secretary.

[FR Doc. E8-12851 Filed 6-6-08; 8:45 am]

BILLING CODE 6717-01-P